FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 4383F.

Name: Relogistics Worldwide, Inc.

Address: 8767 South Street, Fishers, IN 46038.

Date Revoked: August 30, 2010.

Reason: Failed to maintain a valid bond.

License Number: 11078N.

Name: ACS Associates, Inc.

Address: 1 Bridge Street, Suite 10, Irvington, NY 10533.

Date Revoked: August 22, 2010.

Reason: Failed to maintain a valid bond.

License Number: 016727NF.

Name: Cargo Express (Saipan), Inc.

Address: Cargo Express Bldg., Lower Base Drive, Lower Base, Saipan 96950.

Date Revoked: August 25 2010.

Reason: Failed to maintain valid bonds.

License Number: 018155N.

Name: Coastar Freight Services, Inc.

Address: 10370 Slusher Drive, Unit 2, Santa Fe Springs, CA 90670.

Date Revoked: August 23, 2010.

Reason: Failed to maintain a valid bond.

License Number: 018193N.

Name: Cherokee Cargo Corporation.

Address: 6006 Lake Avenue, St. Joseph, MO 64504.

Date Revoked: August 22, 2010.

Reason: Failed to maintain a valid bond.

License Number: 019327N.

Name: David A. Knott dba DAK Logistics Services.

Address: 1010 Bluejay Drive, Suisun City, CA 94585.

Date Revoked: August 23, 2010.

Reason: Failed to maintain a valid bond.

License Number: 019865N.

Name: Advanced Courier Express (ACE), Ltd. dba Hanjin Express NY.

Address: JFK Int'l Airport Bldg. #9, Suite 14, Jamaica, NY 11430.

Date Revoked: August 28, 2010.

Reason: Failed to maintain a valid bond.

License Number: 019867F.

Name: R D Shipping Multy Services Inc.

Address: 809 Adams Avenue, Elizabeth, NJ 07201.

Date Revoked: August 21, 2010.

Reason: Failed to maintain a valid bond.

License Number: 019899F.

Name: Sanjet Express, Inc.

Address: 301 N. Service Road, Roslyn Heights, NY 11577.

Date Revoked: August 21, 2010.

Reason: Failed to maintain a valid bond.

License Number: 020414F.

Name: Planet Freight Services, Inc.

Address: 1744 NW. 82nd Avenue, Doral, FL 33126.

Date Revoked: August 21, 2010.

Reason: Failed to maintain a valid bond.

License Number: 020883NF.

Name: Masters Shipping Inc.

Address: 2196 Fescue Drive, Aurora, IL 60504.

Date Revoked: August 22, 2010.

Reason: Failed to maintain valid bonds.

License Number: 021142N.

Name: Ocean Network Express, Inc.

Address: 2400 S. Wilmington Avenue, Compton, CA 90220.

Date Revoked: August 21, 2010.

Reason: Failed to maintain a valid bond.

License Number: 021431N.

Name: ARC Logistics, Inc.

Address: 9505 Aerospace Drive, St. Louis, MO 63134.

Date Revoked: August 25, 2010.

Reason: Failed to maintain a valid bond.

License Number: 021723F.

Name: ELY Forwarding LLC.

Address: 3214 Ole Miss Drive, Kenner, LA 70065.

Date Revoked: August 5, 2010.

Reason: Failed to maintain a valid bond.

License Number: 022033N.

Name: General Logistics, Inc.

Address: 1400 NW 159th Street, #105, Miami Gardens, FL 33169.

Date Revoked: August 25, 2010.

Reason: Failed to maintain a valid bond.

License Number: 022260N.

Name: EJ Logistic Inc.

Address: 2500 NW. 79th Avenue, Suite 200, Miami, FL 33122.

Date Revoked: August 26, 2010.

Reason: Failed to maintain a valid bond.

Sandra L. Kusumoto,
Director, Bureau of Certification and Licensing.

[FR Doc. 2010-23679 Filed 9-21-10; 8:45 am]

BILLING CODE 6730-01-P